DEPARTMENT OF EDUCATION

National Board for Education Sciences

AGENCY: Department of Education, Institute of Education Sciences.

ACTION: Notice of an Open Meeting and Partially Closed Session.

SUMMARY: This notice sets forth the schedule and proposed agenda of an upcoming meeting of the National Board for Education Sciences. The notice also describes the functions of the Committee. Notice of this meeting is required by Section 10(a)(2) of the Federal Advisory Committee Act and is intended to notify the public of their opportunity to attend the open portion of the meeting.

DATES: July 27, 2009.

Time: Open meeting, 1:30 p.m. to 4:30 p.m.; closed session, 4:30 p.m. to 5 p.m.

ADDRESSES: 80 F Street, NW., Room 100, Washington, DC 20208

FOR FURTHER INFORMATION CONTACT: Norma Garza, Executive Director, National Board for Education Sciences, 555 New Jersey Ave., NW., Room 627H, Washington, DC 20208; phone: (202) 219-2195; fax: (202) 219-1466; e-mail: Norma.Garza@ed.gov.

Individuals who use a telecommunications device for the deaf (TDD) may call the Federal Information Relay Service (FIRS) at 1-800-877-8339.

SUPPLEMENTARY INFORMATION: The National Board for Education Sciences is authorized by Section 116 of the Education Sciences Reform Act of 2002 (ESRA). The Board advises the Director of the Institute of Education Sciences (IES) on the establishment of activities to be supported by the Institute, on the funding for applications for grants, contracts, and cooperative agreements for research after the completion of peer review, and reviews and evaluates the work of the Institute. At this time, the Board consists of only six of fifteen appointed members due to the expirations of the terms of nine members. The Board shall meet and can carry out official business because the ESRA states that a majority of the voting members serving at the time of a meeting constitutes a quorum.

On July 27 from 1:30 p.m. to 4:30 p.m., the Board will receive a briefing on the American Recovery and Reinvestment Act (ARRA), conduct an overview of its interactions with IES, and discuss its annual report. At 4:30 p.m., the meeting will be closed to the public to discuss possible candidates to serve as Commissioners for the IES Centers. Because this discussion involves a discussion of individuals' qualifications to serve, it will be closed under exemptions (2) and (6) of Section 552b(c) of Title 5 U.S.C. This portion of the meeting must be held in closed session because the meeting concerns the internal personnel practices of an agency and would disclose information of a personal nature where disclosure would constitute an invasion of personal privacy if it were to be held in open session.

A final agenda will be available from Norma Garza (see contact information above) on July 20. Individuals who will need accommodations for a disability in order to attend the meeting (e.g., interpreting services, assistance listening devices, or materials in alternative format) should notify Norma Garza no later than July 20. We will attempt to meet requests for accommodations after this date but cannot guarantee their availability. The meeting site is accessible to individuals with disabilities.

Records are kept of all Committee proceedings and are available for public inspection at 555 New Jersey Ave., NW., Room 627H, Washington, DC 20208, from the hours of 9 a.m. to 5 p.m., Eastern Standard Time Monday through Friday.

Electronic Access to This Document: You may view this document, as well as all other documents of this Department published in the Federal Register, in text or Adobe Portable Document Format (PDF) on the Internet at the following site: http://www.ed.gov/news/fed-register/index.html.

To use PDF you must have Adobe Acrobat Reader, which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.gpoaccess.gov/nara/index.html.

John Q. Easton,
Director, Institute of Education Sciences.

[FR Doc. E9-16256 Filed 7-8-09; 8:45 am]

BILLING CODE 4000-01-P